FEDERAL RESERVE SYSTEM

Agency Information Collection Activities: Announcement of Board Approval Under Delegated Authority and Submission to OMB

AGENCY: Board of Governors of the Federal Reserve System

SUMMARY: Background. Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829).

OMB Desk Officer—Alexander T. Hunt—Office of Information and Regulatory Affairs, Office of Management and Budget, New Executive Office Building, Room 10235, Washington, DC 20503.

Final approval under OMB delegated authority of the extension for three years, without revision, of the following report:

Report title: Compensation and Salary Surveys

Agency form number: FR 29a,b

OMB Control number: 7100-0290

Frequency: FR 29a, annually; FR 29b, on occasion

Reporters: Employers considered competitors for Federal Reserve employees

Annual reporting hours: FR 29a, 210 hours; FR 29b, 50 hours

Estimated average hours per response: FR 29a, 6 hours; FR 29b, 1 hour

Number of respondents: 45

General description of report: This information collection is voluntary (sections 10(4) and 11(1) of the Federal Reserve Act (12 U.S.C. 244 and 248(1)) and is given confidential treatment (5 U.S.C 552 (b)(4) and (b)(6)).

Abstract: These surveys collect information on salaries, employee compensation policies, and other employee programs from employers that are considered competitors for Federal Reserve Board employees. The data from the surveys primarily are used to determine the appropriate salary structure and salary adjustments for Federal Reserve Board employees.

Current Actions: On September 21, 2007, the Federal Reserve published a notice in the Federal Register (72 FR 54041) requesting public comment for sixty days on the extension, without revision, of the Compensation and Salary Surveys; the comment period expired on November 20, 2007. The Federal Reserve did not receive any comments.

Board of Governors of the Federal Reserve System, November 27, 2007.

Jennifer J. Johnson
Secretary of the Board.

[FR Doc. E7-23307 Filed 11-30-07; 8:45 am]

BILLING CODE 6210-01-S